DEPARTMENT OF HOMELAND SECURITY

Coast Guard

[USCG 2003-15778]

Information Collections Under Review by the Office of Management and Budget (OMB): OMB Control Numbers: 1625-0023 (Formerly 2115-0092), 1625-0017 (Formerly 2115-0056), 1625-0044 (Formerly 2115-0542), and 1625-0008 (Formerly 2115-0017)

AGENCY: Coast Guard, DHS.

ACTION: Request for comments.

SUMMARY: In compliance with the Paperwork Reduction Act of 1995, this request for comments announces that the Coast Guard has forwarded the four Information Collection Requests (ICRs) abstracted below to the Office of Information and Regulatory Affairs (OIRA) of the Office of Management and Budget (OMB) for review and comment. Our ICRs describe the information we seek to collect from the public. Review and comment by OIRA ensures that we impose only paperwork burdens commensurate with our performance of duties.

DATES: Please submit comments on or before December 17, 2003.

ADDRESSES: To make sure that your comments and related material do not enter the docket [USCG 2003-15778] more than once, please submit them by only one of the following means:

(1)(a) By mail to the Docket Management Facility, U.S. Department of Transportation, room PL-401, 400 Seventh Street, SW., Washington, DC 20590-0001. (b) By mail to OIRA, 725 17th Street, NW., Washington, DC 20503, to the attention of the Desk Officer for the Coast Guard.

(2)(a) By delivery to room PL-401 at the address given in paragraph (1)(a) above, between 9 a.m. and 5 p.m., Monday through Friday, except Federal holidays. The telephone number is (202) 366-9329. (b) By delivery to OIRA, at the address given in paragraph (1)(b) above, to the attention of the Desk Officer for the Coast Guard.

(3) By fax to (a) the Facility at (202) 493-2251 and (b) OIRA at (202) 395-5806, or e-mail to OIRA at oira_docket@omb.eop.gov, attention: Desk Officer for the Coast Guard.

(4)(a) Electronically through the Web site for the Docket Management System at http://dms.dot.gov. (b) OIRA does not have a Web site on which you can post your comments.

(5) Electronically through Federal eRule Portal: http://www.regulations.gov.

The Facility maintains the public docket for this notice. Comments and material received from the public, as well as documents mentioned in this notice as being available in the docket, will become part of this docket and will be available for inspection or copying at room PL-401 (Plaza level), 400 Seventh Street, SW., Washington, DC, between 9 a.m. and 5 p.m., Monday through Friday, except Federal holidays. You may also find this docket on the Internet at http://dms.dot.gov.

Copies of the complete ICRs are available for inspection and copying in public dockets. They are available in docket USCG 2003-15778 of the Docket Management Facility between 10 a.m. and 5 p.m., Monday through Friday, except Federal holidays; for inspection and printing on the Internet at http://dms.dot.gov; and for inspection from the Commandant (G-CIM-2), U.S. Coast Guard, room 6106, 2100 Second Street, SW., Washington, DC, between 10 a.m. and 4 p.m., Monday through Friday, except Federal holidays.

FOR FURTHER INFORMATION CONTACT: Barbara Davis, Office of Information Management, (202) 267-2326, for questions on this document; Andrea M. Jenkins, Program Manager, U.S. Department of Transportation, (202) 366-0271, for questions on the docket.

SUPPLEMENTARY INFORMATION:

Public Participation and Request for Comments

We encourage you to participate in this request for comment by submitting comments and related materials. We will post all comments received, without change, to http://dms.dot.gov, and they will include any personal information you have provided. We have an agreement with DOT to use the Docket Management Facility. Please see the paragraph on DOT's “Privacy Act” below.

Submitting comments: If you submit a comment, please include your name and address, identify the docket number for this request for comment [USCG-2003-15778], indicate the specific section of this document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this preamble as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 [65 FR 19477], or you may visit http://dms.dot.gov.

Regulatory History

This request constitutes the 30-day notice required by OIRA. The Coast Guard has already published [68 FR 45833 (August 4, 2003)] the 60-day notice required by OIRA. That notice elicited no comments.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collection on respondents, including the use of automated collection techniques or other forms of information technology.

Comments, to DMS or OIRA, must contain the OMB Control Number of the ICR addressed. Comments to DMS must contain the docket number of this request, USCG 2003-15778. Comments to OIRA are best assured of having their full effect if OIRA receives them 30 or fewer days after the publication of this request.

Information Collection Request

1. Title: Barge Fleeting Facility Records.

OMB Control Number: 1625-0023.

Type of Request: Extension of a currently approved collection.

Affected Public: Operators of barge fleeting facilities.

Form: This collection of information does not require the public to fill out forms, but does require barge facilities to keep records of daily inspections.

Abstract: This collection of information requires the person-in-charge of a barge fleeting facility to keep records of twice daily inspections of barge moorings and movements of barges and hazardous cargo in and out of the facility.

Annual Estimated Burden Hours: The estimated burden is 32,092 hours a year.

2. Title: Various International Agreement Safety Certificates and Documents.

OMB Control Number: 1625-0017.

Type of Request: Extension of a currently approved collection.

Affected Public: Owners and operators of vessels.

Form: CG-967, CG-968, CG-968A, CG-969, CG-3347, CG-3347B, CG-4359, CG-5643, CG-5679, CG-5679A, CG-5680.

Abstract: This collection of information accounts for 11 certificates and documents associated with the International Convention for Safety of Life at Sea, 1974 (SOLAS). Each of certain U.S.-flag vessels on international voyages needs one or more of these certificates or documents to demonstrate compliance with SOLAS. Without proper certificates and documents, such a vessel could find itself detained in a foreign port. The certificates and documents associated with this collection issue primarily to deep-draft vessels, and thus the annual hour-burden estimated below is relatively small for these requirements of recordkeeping—which in practice is just posting. The factors that result in the relatively small burden are (a) the limited number of vessels in the affected population; (b) the brief amount of time, no more than five minutes for any certificate or document, necessary for this posting; and (c) the limited frequency with which these certificates and documents issue—many only once in five years.

Annual Estimated Burden Hours: The estimated burden is 16 hours a year.

3. Title: Outer Continental Shelf (OCS) Activities—Title 33 CFR Subchapter N.

OMB Control Number: 1625-0044.

Type of Request: Extension of a currently approved collection.

Affected Public: Operators of facilities and vessels engaged in activities on the OCS.

Form: CG-5432.

Abstract: The information is needed to ensure compliance with the safety regulations related to OCS activities. The regulations include reporting and recordkeeping requirements for annual inspections of fixed OCS facilities, employee citizenship records, station bills, and emergency evacuation plans.

Annual Estimated Burden Hours: The estimated burden is 5,767 hours a year.

4. Title: Regattas and Marine Parades.

OMB Control Number: 1625-0008.

Type of Request: Extension of a currently approved collection.

Affected Public: Sponsors of marine events.

Form: This collection of information does not require the public to fill out forms, but does require the submittal of information to the Coast Guard in written or electronic format.

Abstract: The Coast Guard needs to determine whether a marine event may present a substantial threat to the safety of human life on navigable waters and which measures are needed to ensure the safety of life during the events. The requirement for sponsors of these events to provide specific information on their events is an efficient means for the Coast Guard to learn of the events and to address environmental impacts of events requiring permits.

Annual Estimated Burden Hours: The estimated burden is 3,000 hours a year.

Dated: November 7, 2003.
Clifford I. Pearson,
Assistant Commandant for Command, Control, Communications, Computers and Information Technology.

[FR Doc. 03-28616 Filed 11-14-03; 8:45 am]

BILLING CODE 4910-15-P